DEPARTMENT OF VETERANS AFFAIRS

[OMB Control No. 2900-0619]

Inquiry Routing and Information System; Correction

AGENCY: Office of Information and Technology, Department of Veterans Affairs.

ACTION: Notice; correction.

SUMMARY: The Department of Veterans Affairs (VA) published an information collection notice in a Federal Register on July 15, 2013 (78 FR 42157), that contained errors. In the SUMMARY section of the notice, VA announced that the Veterans Health Administration (VHA) had submitted the collection of information titled “Inquiry Routing and Information System (IRIS) to the Office of Management and Budget (OMB) for review and comment. It should have stated that the Office of Information and Technology (OIT) had submitted the collection of information to OMB. Also, at the AGENCY heading, VHA was named the sponsoring program office when the sponsoring program office is OIT. Lastly, we have corrected the office title of the FOR FURTHER INFORMATION CONTACT person. Those errors are corrected by this notice.

FOR FURTHER INFORMATION CONTACT: Crystal Rennie, Enterprise Records Service (005R1B), Department of Veterans Affairs, 810 Vermont Avenue NW., Washington, DC 20420, at (202) 632-7492.

Correction

In FR Doc. 2013-16773, published on July 15, 2013, at 78FR42157, make the following corrections.

On page 42157, in the first column, at the AGENCY heading, remove “Veterans Health Administration” and add, in its place, “Office of Information and Technology”, in the SUMMARY, second column, remove Veterans Health Administration (VHA), and add, in its place, “Office of Information and Technology (OIT)”, and at FOR FURTHER INFORMATION OR A COPY OF THE SUBMISSION CONTACT, removed “Records Management Service” and add, in its place “Enterprise Records Service”.

Robert C. McFetridge,
Director, Office of Regulation Policy and Management, Office of the General Counsel, Department of Veterans Affairs.

[FR Doc. 2013-17749 Filed 7-23-13; 8:45 am]

BILLING CODE 8320-01-P